DEPARTMENT OF DEFENSE

Department of the Army

Notice of Availability of a Record of Decision (ROD) for the Implementation of the Base Realignment and Closure (BRAC) 2005 and Transformation Actions at Fort Benning, GA

AGENCY: Department of the Army, DoD.

ACTION: Record of Decision.

SUMMARY: The Department of the Army announces the availability of the ROD, which summarizes the decision for implementing BRAC actions as directed by the 2005 Base Closure and Realignment Commission and DoD Transformation Actions at Fort Benning, Georgia.

ADDRESSES: To obtain a copy of the ROD, contact Mr. John Brent, Fort Benning Directorate of Public Works, Environmental Management Division, Bldg #6 (Meloy Hall), Room 310, Fort Benning, GA 31905; via e-mail at john.brent@benning.army.mil; or via Web site at http://www.hqda.army.mil/acsim/brac/nepa_eis_docs.htm.

FOR FURTHER INFORMATION CONTACT: Mr. John Brent at (706) 545-2180.

SUPPLEMENTARY INFORMATION: The Army has decided to proceed with implementing the Preferred Alternative (Alternative B) of the Proposed Action consistent with the analysis in the Environmental Impact Statement (EIS) (dated October 2007) and supporting studies and comments provided during formal comment and review periods. The Proposed Action includes the construction activities, personnel increases, and training activities associated with the BRAC Commission recommendations, the Global Defense Posture Realignment (GDPR) overseas restationing actions, Army Modular Force (AMF) initiatives, and other discretionary stationing activities at Fort Benning. As a result of the proposed action, Fort Benning will be receiving personnel, equipment, and missions from various realignment and closure actions. To implement the BRAC Commission recommended initiatives, the Army will provide the necessary facilities, infrastructure, training ranges and maneuver areas to support the changes. Permanent facilities will be constructed to house the Armor Center and School as well as several other minor unit relocations. Construction activities include administrative, supply/storage, maintenance, barracks, commercial services, community facilities, medical and dental, and recreation facilities focused on the cantonment areas. A combination of redevelopment (e.g., renovation), development, and expansion would occur at the four major cantonment areas: Main Post, Kelley Hill, Sand Hill, and Harmony Church. Activities to occur in the ranges and maneuver areas include construction of small- and large-caliber weapons ranges, heavy maneuver areas and corridors, a drivers' training course, off-road driver's training area, and vehicle recovery area to support the training range requirements. The largest-scale transformation activity is the BRAC action to relocate the Armor Center and School from Fort Knox, Kentucky, to Fort Benning. Once relocated to Fort Benning, the Armor Center and School would be combined with the existing Infantry Center and School to create a Maneuver Center of Excellence for ground forces training and doctrine development. Fort Benning also proposes to implement other transformation actions as the Army undergoes restructuring to meet the demands of the 21st century. The AMF initiative involves the Army's transition from a division-centric design to a standard brigade organization. The reshaping of the military force structure also includes provision for the return of units currently based overseas to United States installations as part of the GDPR. Finally, discretionary stationing actions (activations, inactivations, realignments, and relocations) are proposed, which contribute to and are interrelated with the transformation process. All BRAC and other transformation actions will collectively result in an increase of approximately 16,600 military, civilian, student and contractor personnel. Alternative A would also meet the Army transformation purpose and need, but it is not the preferred option due to the magnitude of impacts on the Red-cockaded woodpecker (RCW) (Picoides borealis), federally-listed endangered species. The No Action Alternative would not meet the Army's purpose and need for the BRAC 2005 and transformation actions.

Special consideration was given to the effects of Alternative A and Alternative B (the Preferred Alternative) of the Proposed Action on the natural and human environment. Mitigation measures have been adopted to avoid or minimize environmental harm from the selected alternative. Mitigation measures, as described in the ROD, will be implemented to minimize, avoid, or compensate for the significant adverse effects identified in the EIS at Fort Benning for transportation, noise, water resources, geology and soils, biological resources, cultural resources, and safety. In addition, the Army evaluated national defense needs, the synergistic relationship between BRAC, AMF, GDPR, and stationing actions, as well as meeting the purpose and need for the BRAC 2005 recommendations to include the creation of the Maneuver Center of Excellence.

The ROD states that implementing the Preferred Alternative reflects a proper balance between initiatives for protection of the environment, appropriate mitigation, and actions to achieve the Army's requirements. There are no differences in impacts to resources such as aesthetics and visual, socioeconomics, transportation, utilities, noise, hazardous and toxic materials and waste, utilities, and safety between Alternatives A and B. Alternative A does impact fewer acres, thus disturbing a lesser area of soils (and indirectly producing less fugitive dust that impacts air quality). Biological resources such as vegetation, wildlife, aquatic habitats, and unique ecological areas would also be impacted to a lesser degree, and fewer cultural resources would be affected. Nevertheless, under Alternative A there would be a greater number of RCWs impacted if it were implemented. In the Biological Opinion, the U.S. Fish and Wildlife Service concurred that the preferred alternative is not likely to jeopardize the continued existence of the RCW and relict trillium. Moreover, the Preferred Alternative does not introduce any greater impacts to other resources that cannot be mitigated when compared to Alternative A.

Dated: December 3, 2007.
Addison D. Davis, IV,
Deputy Assistant Secretary of the Army (Environment, Safety and Occupational Health).

[FR Doc. 07-6014 Filed 12-11-07; 8:45 am]

BILLING CODE 3710-08-M